DEPARTMENT OF INTERIOR

Bureau of Land Management

[LLCO956000.L14200000 BJ0000]

Notice of Filing of Plats

AGENCY: Bureau of Land Management, Interior.

ACTION: Notice of filing of plats.

SUMMARY: The Bureau of Land Management (BLM) Colorado State Office is publishing this notice to inform the public of the intent to file the land survey plats listed below, and to afford all affected parties a proper period of time to protest this action, prior to the plat filing.

DATES: Unless there are protests of this action, the filing of the plats described in this notice will happen on August 1, 2011.

ADDRESSES: BLM Colorado State Office, Cadastral Survey, 2850 Youngfield Street, Lakewood, Colorado 80215-7093.

FOR FURTHER INFORMATION CONTACT: Randy Bloom, Chief Cadastral Surveyor for Colorado, (303) 239-3856.

SUPPLEMENTARY INFORMATION:

The plat and field notes of the dependent resurveys and subdivision of Section 36, in Township 15 South, Range 98 West, Sixth Principal Meridian, Colorado, were accepted on November 4, 2010.

The plat and field notes of the dependent resurvey in Township 15 South, Range 97 West, Sixth Principal Meridian, Colorado, were accepted on November 4, 2010.

The plat and field notes of the dependent resurvey and survey in Township 4 South, Range 3 East, Ute Meridian, Colorado, were accepted on November 4, 2010.

The plat and field notes of the dependent resurvey and survey in Fractional Township 12 South, Range 99 West, Sixth Principal Meridian, Colorado, were accepted on November 9, 2010.

The supplemental plat of Section 36, in Township 38 North, Range 9 West, New Mexico Principal Meridian, Colorado, was accepted on December 3, 2010.

The plat and field notes of the dependent resurvey and subdivision of Section 18, in Township 12 South, Range 71 West, Sixth Principal Meridian, Colorado, were accepted on December 15, 2010.

The plat and field notes of the corrective dependent resurvey in Township 1 North, Range 2 West, Ute Meridian, Colorado, were accepted on December 28, 2010.

The plat incorporating the field notes of the dependent resurvey and metes-and-bounds survey of Tract 37, in Township 15 South, Range 77 West, Sixth Principal Meridian, Colorado, was accepted on March 2, 2011.

The plat and field notes of the dependent resurvey and survey in Township 15 South, Range 81 West, Sixth Principal Meridian, Colorado, were accepted on May 10, 2011.

The plat incorporating the field notes of the corrective dependent resurvey in Township 11 South, Range 79 West, Sixth Principal Meridian, Colorado, was accepted on May 17, 2011.

The plat and field notes of the dependent resurvey and subdivision of Section 4, in Township 15 South, Range 75 West, Sixth Principal Meridian, Colorado, were accepted on May 27, 2011.

The plat incorporating the field notes of the dependent resurvey and subdivision of Section 33, in Township 17 South, Range 72 West, Sixth Principal Meridian, Colorado, was accepted on May 27, 2011.

The plat and field notes of the dependent resurvey of H.E.S. No. 77, in Township 11 North, Range 82 West, Sixth Principal Meridian, Colorado, were accepted on June 7, 2011.

The plat and field notes of the dependent resurvey and survey in Township 15 South, Range 68 West, Sixth Principal Meridian, Colorado, were accepted on June 7, 2011.

If a protest of any of these projects is received prior to the date of the official filing, the official filing of that project will be stayed pending consideration of the merits of the protest.

Randy Bloom,
Chief Cadastral Surveyor for Colorado.

[FR Doc. 2011-16483 Filed 6-29-11; 8:45 am]

BILLING CODE 4310-JB-P